DEPARTMENT OF JUSTICE

Notice of Lodging of Consent Decree Pursuant to the Clean Air Act

In accordance with Departmental policy, 28 CFR 50.7, notice is hereby given that a proposed consent decree in United States et al. v. Sunoco, Civil Action No. 05-cv-2866 PBT was lodged on June 16, 2005 with the United States District Court for the Eastern District of Pennsylvania. Under the terms of the proposed consent decree, Sunoco has agreed to install add-on control technologies and implement enhanced flaring, benzene, and leak detection and repair programs that will reduce emissions of nitrogen oxides, sulfur dioxide, and particulate matter from refinery process units (principally the fluidized catalytic cracking units and process heaters and boilers) consistent with best available control technology (“BACT”) standards and new source performance standards “NSPS”) emissions limits. In addition, under the proposed consent decree, Sunoco will: Adopt and implement other comprehensive, facility-wide programs for monitoring and controlling emissions of benzene and other volatile organic compounds. Sunoco also will install a redundant sulfur recovery plant with tail gas unit at its Toledo refinery. Sunoco will pay a civil penalty of $3 million and will perform Supplemental Environmental Projects valued at more than $3.9 million.

The Department of Justice will receive, for a period of thirty (30) days from the date of this publication, comments relating to the proposed consent decree. Comments should be addressed to the Assistant Attorney General, Environmental and Natural Resources Division, P.O. Box 7611, U.S. Department of Justice, Washington, DC 20004-7611, and should refer to United States et al. v Sunoco, DOJ Ref. 90-5-2-1-1744/1.

The proposed consent decree may be examined at the office of the United States Attorney, 615 Chestnut Street, Suite 1250, Philadelphia, PA 19106 and at U.S. EPA Region 3, 1650 Arch Street, Philadelphia, PA 19103. During the comment period, the consent decree may be examined on the following Department of Justice Web site, http://www.usdoj.gov/enrd/open.html. Copies of the consent decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $50.50 (with attachments) or $42.75 (without attachments) for United States et al. v. Sunoco, (25 cents per page reproduction cost) payable to the U.S. Treasury.

Robert Brook,
Assistant Section Chief Environmental Enforcement Section.

[FR Doc. 05-12462 Filed 6-22-05; 8:45 am]

BILLING CODE 4410-15-M